DEPARTMENT OF STATE

[Public Notice: 10342]

Notice of Determinations; Additional Culturally Significant Object Imported for Exhibition Determinations: “Like Life: Sculpture, Color, and the Body” Exhibition

SUMMARY: On January 19, 2018, notice was published on page 2864 of the Federal Register (volume 83, number 13) of determinations pertaining to certain objects to be included in an exhibition entitled “Like Life: Sculpture, Color, and the Body.” Notice is hereby given of the following determinations: I hereby determine that a certain additional object to be included in the exhibition “Like Life: Sculpture, Color, and the Body,” imported from abroad for temporary exhibition within the United States, is of cultural significance. The additional object is imported pursuant to a loan agreement with the foreign owner or custodian. I also determine that the exhibition or display of the additional exhibit object at The Metropolitan Museum of Art, New York, New York, from on or about March 20, 2018, until on or about July 22, 2018, and at possible additional exhibitions or venues yet to be determined, is in the national interest.

FOR FURTHER INFORMATION CONTACT: Elliot Chiu in the Office of the Legal Adviser, U.S. Department of State (telephone: 202-632-6471; email: section2459@state.gov). The mailing address is U.S. Department of State, L/PD, SA-5, Suite 5H03, Washington, DC 20522-0505.

SUPPLEMENTARY INFORMATION: The foregoing determinations were made pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257-1 of December 11, 2015). I have ordered that Public Notice of these determinations be published in the Federal Register.

Alyson Grunder,
Deputy Assistant Secretary for Policy, Bureau of Educational and Cultural Affairs, Department of State.

[FR Doc. 2018-04372 Filed 3-2-18; 8:45 am]

BILLING CODE 4710-05-P